SECURITIES AND EXCHANGE COMMISSION

[Release No. 34-95241A; File No. SR-CboeEDGA-2021-025]

Self-Regulatory Organizations; Cboe EDGA Exchange, Inc.; Notice of Withdrawal of a Proposed Rule Change, as Modified by Amendment No. 1, To Introduce a New Data Product To Be Known as the Short Volume Report; Correction

August 3, 2022.

AGENCY: Securities and Exchange Commission.

ACTION: Notice; correction.

SUMMARY: The Securities and Exchange Commission published a document in the Federal Register on July 15, 2022, concerning a Notice of Withdrawal of a Proposed Rule Change, as Modified by Amendment No. 1, To Introduce a New Data Product To Be Known as the Short Volume Report. The document contained a typographical error.

FOR FURTHER INFORMATION CONTACT: Naomi P. Lewis, Securities and Exchange Commission, 100 F Street NE, Washington, DC 20549, (202) 551-5400.

SUPPLEMENTARY INFORMATION:

Correction

In the Federal Register of July 15, 2022, in FR Doc. 2022-15123, on page 42532, in the second column, on the 47th line, on the first line under the heading “SECURITIES AND EXCHANGE COMMISSION” correct the reference to “34-9524” to read “34-95241”.

J. Matthew DeLesDernier,
Deputy Secretary.

[FR Doc. 2022-16943 Filed 8-5-22; 8:45 am]

BILLING CODE 8011-01-P